DEPARTMENT OF EDUCATION

[Docket No. ED-2016-ICCD-0144]

Agency Information Collection Activities; Comment Request; Application and Employment Certification for Public Service Loan Forgiveness

AGENCY: Federal Student Aid (FSA), Department of Education (ED).

ACTION: Notice.

SUMMARY: In accordance with the Paperwork Reduction Act of 1995 (44 U.S.C. chapter 3501 et seq.), ED is proposing a revision of an existing information collection.

DATES: Interested persons are invited to submit comments on or before February 13, 2017.

ADDRESSES: To access and review all the documents related to the information collection listed in this notice, please use http://www.regulations.gov by searching the Docket ID number ED-2016-ICCD-0144. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-347, Washington, DC 20202-4537.

FOR FURTHER INFORMATION CONTACT: For specific questions related to collection activities, please contact Ian Foss, 202-377-3681.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application and Employment Certification for Public Service Loan Forgiveness.

OMB Control Number: 1845-0110.

Type of Review: A revision of an existing information collection.

Respondents/Affected Public: Individuals or Households.

Total Estimated Number of Annual Responses: 728,419.

Total Estimated Number of Annual Burden Hours: 364,210.

Abstract: Final regulations for the Public Service Loan Forgiveness (PSLF) Program were published in the Federal Register on October 23, 2008 (73 FR 63256) and were codified in 34 CFR 685.219. These regulations require a borrower to submit an application for loan forgiveness to the U.S. Department of Education (the Department). To determine whether a borrower is eligible for loan forgiveness, the Department must confirm that the borrower was employed full-time by a qualifying public service organization at the time each of the required 120 payments was made. Because borrowers must make 120 payments on or after October 1, 2007 before becoming eligible for forgiveness, the earliest that any borrower could apply for forgiveness under PSLF would be October 1, 2017.

The Department is creating an application for forgiveness and revising the Employment Certification Form which is already part of this collection. Pages 2 through 6 of the current Employment Certification Form will also be embedded in the application. Slight changes have been made to the language on the Employment Certification Form to increase consistency and understanding.

Dated: December 13, 2016.
Kate Mullan,
Acting Director, Information Collection Clearance Division, Office of the Chief Privacy Officer, Office of Management.

[FR Doc. 2016-30270 Filed 12-14-16; 8:45 am]

BILLING CODE 4000-01-P